DEPARTMENT OF ENERGY

Federal Energy Regulatory Commission

[Docket No. AD14-14-000]

Price Formation in Energy and Ancillary Services Markets Operated by Regional Transmission Organizations and Independent System Operators; Notice of Issuance of Report on Operator Actions in RTO and ISO Markets

As announced in Notices issued October 10, 2014, and November 20, 2014, the Federal Energy Regulatory Commission (Commission) will hold a workshop on Tuesday, December 9, 2014 to commence a discussion with industry on operator actions in energy and ancillary service markets operated by the Regional Transmission Organizations and Independent System Operators (RTOs/ISOs).

A report on operator actions in RTO/ISO markets has been posted to the Commission Web site at: http://www.ferc.gov/legal/staff-reports/2014/AD14-14-operator-actions.pdf.

Dated: December 4, 2014.
Kimberly D. Bose,
Secretary.

[FR Doc. 2014-29048 Filed 12-10-14; 8:45 am]

BILLING CODE 6717-01-P